DEPARTMENT OF JUSTICE

Antitrust Division

Notice Pursuant to the National Cooperative Research and Production Act of 1993—National Armaments Consortium

Notice is hereby given that, on April 10, 2023, pursuant to Section 6(a) of the National Cooperative Research and Production Act of 1993, 15 U.S.C. 4301 et seq. (“the Act”), the National Armaments Consortium (“NAC”) has filed written notifications simultaneously with the Attorney General and the Federal Trade Commission disclosing changes in its membership. The notifications were filed for the purpose of extending the Act's provisions limiting the recovery of antitrust plaintiffs to actual damages under specified circumstances. Specifically, ACMI Austin LLC, Austin, TX; American Automated Engineering, Inc., Huntington Beach, CA; B4C Technologies Inc., Palm City, FL; Central Metal Fabricators, Inc., Farmingdale, NJ; Cyberspace Solutions LLC dba Illuminate Mission Solutions, Herndon, VA; Defense Industry Advisors, LLC, Dayton, OH; EH Group, Inc., Tuscaloosa, AL; Fairbanks Morse LLC, Beloit, WI; FORBES4 LLC, Upper Marlboro, MD; Foursyte LLC dba Foursyte Technology, Ashburn, VA; G.W. Lisk Company Inc., Clifton Springs, NY; Global Tungsten and Powders LLC, ; Helicoid Industries, Inc., Indio, CA; Hexagon US Federal, Inc., Huntsville, AL; Innovative Signal Analysis, Inc., Richardson, TX; Kaman Aerospace Corporation, Air Vehicles Division, Bloomfield, CT; Lightspeed Technologies Inc. dba LP3, Fairfax, VA; Mission Driven Research, Inc, Huntsville, AL; MITHIX PRO LLC, Farmersville, TX; Olles Applied Research, LLC, Hilton, NY; Sarcos, Salt Lake City, UT; Stratus Systems, Belle Chasse, LA; The Mason & Hanger Group Inc, Lexington, KY; The University of Texas at Dallas, Richardson, TX; Tungsten Parts Wyoming, Laramie, WY; and Zero Point, Inc., Virginia Beach, VA, have been added as parties to this venture.

Also, Applied Sonics, Inc., Denver, CO; and Davis Strategic Innovations, Inc., Huntsville, AL, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on February 13, 2023. A notice was published in the Federal Register pursuant to Section 6(b) of the Act on March 27, 2023 (88 FR 18181).

Suzanne Morris,
Deputy Director, Civil Enforcement Operations, Antitrust Division.

[FR Doc. 2023-12511 Filed 6-9-23; 8:45 am]

BILLING CODE P